DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: NOAA Community-based Restoration Program Progress Reports.

Form Number(s): None.

OMB Approval Number: 0648-0334.

Type of Request: Regular submission.

Burden Hours: 268.

Number of Respondents: 142.

Average Hours Per Response: Transfer application, 1 hour; transfer appeal, 4 hours.

Needs and Uses: The License Limitation Program (LLP) is a step toward a comprehensive rationalization program to solve the conservation and management problems of Alaska's open access fisheries. The LLP provides stability in the fishing industry and identifies the field of participants in the fisheries. The LLP restricts access to the commercial groundfish fisheries, commercial crab fisheries and commercial scallop fisheries in the Exclusive Economic Zone off Alaska except for certain areas where alternative programs exist. The intended effect of the LLP is to limit the number of participants and reduce fishing capacity in fisheries off Alaska.

Affected Public: Business or other for-profit organizations; individuals or households.

Frequency: On occasion.

Respondent's Obligation: Required to obtain or retain benefits.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at: dHynek@doc.gov).

Written comments and recommendations for the proposed information collection should be sent within 30 days of publication of this notice to David Rostker, OMB Desk Officer, Fax number (202) 395-7285, or David_Rostker@omb.eop.gov.

Dated: March 20, 2008.
Gwellnar Banks,
Management Analyst, Office of the Chief Information Officer.

[FR Doc. E8-6045 Filed 3-25-08; 8:45 am]

BILLING CODE 3510-22-P